DEPARTMENT OF DEFENSE

Department of the Army, Corps of Engineers

Announcement of Public Hearing on a Draft Environmental Impact Statement/Environmental Impact Report (EIS/EIR) for the Upper Newport Bay Ecosystem Restoration Project, Orange County, California

AGENCY: U.S. Army Corps of Engineers, DoD.

ACTION: Notice (Announcement of Public Hearing Date).

SUMMARY: The Draft EIS/EIR will be released for public review on or about June 30, 2000. The Environmental Protection Agency plans to publish a Notice of Availability of the Draft EIS/EIR in the Federal Register on or about June 30, 2000. The public review of the Draft EIS/EIR ends on August 14, 2000.

ADDRESSES: Commander, U.S. Army Corps of Engineers, Los Angeles District, Ecosystem Planning Section, P.O. Box 532711, Los Angeles, CA 90053-2325.

FOR FURTHER INFORMATION CONTACT: Mr. Larry Smith, Technical Manager, phone (213) 452-3846.

SUPPLEMENTARY INFORMATION:

1. Background

The purpose of the Upper Newport Bay Ecosystem Restoration Project is to develop a long-term management plan to control sediment deposition in the Upper Bay to preserve the health of Upper Newport Bay's habitats. Sediment will continue to deposit in the Bay no matter what control measures are implemented in the watershed. Therefore, one of the most important components of this project is to develop a plan to control sediments by designing one or two in-bay basins in which the bulk of the sediment will settle. In addition to developing a plan for sediment control, the Upper Newport Bay Restoration project includes several other measures to improve habitat quality in the Upper Bay.

2. Proposed Action

The proposed project would involve deepening and expanding the existing sediment basins. Additional ecosystem restoration measures would be included to enhance the overall habitat value of Upper Newport Bay.

3. Alternatives

The EIS/EIR evaluates four alternatives carried forward for detailed environmental analysis. In general, the major differences among alternatives are the basin and channel depths. During the Preliminary Engineering Design (PED) phase, modifications to further reduce the loss of intertidal mudflat habitat will be investigated.

No Action: No dredging would occur within the Upper Bay ecological reserve.

Recommended Plan: The recommended plan includes the expansion and deepening of the Unit I/III basin and the Unit II basin to -20 feet (−6 m) MSL, with an approach channel between the two basins dredged to −14 feet (−4.2 m) MSL; a 100-foot wide approach channel below the Unit II basin to PCH Bridge, dredged to −14 feet MSL; the removal of the existing 4-acre tern island from the Unit I/III basin and reconstruction of the tern island in the Unit II basin adjacent to the western segment of the salt dike; and habitat restoration measures that include side channels around the small tern island adjacent to the Unit I/III basin, New Island, Middle Island and Shellmaker Island; the capping of the small tern island with clean sand; the removal of old dredge spoil and restoration of the Bullnose area adjacent to the Unit I/III basin, Northstar Beach and Shellmaker Island; the creation of a small channel on Shellmaker Island adjacent to the eastern edge of the restoration area; the segmenting of the main dike to decrease potential terrestrial disturbances; the restoration of eelgrass beds along the southwestern edge of Shellmaker Island; and, the addition of education kiosks along Back Bay Drive and by the interpretive center.

Dredging Methods: Two dredge types were evaluated: hydraulic and clamshell. The contractor will select a dredge type based on availability and cost. Impacts associated with the use of the two dredge types are evaluated in the EIS/R.

4. The USACOE and the County of Orange, the local sponsor, will consider public concerns on the Draft EIS/EIR. Summary of the Public Hearing and written comment letters and responses will be incorporated in the Final EIS/EIR as appropriate.

5. Time and Location

The Public Hearing is scheduled for Tuesday, July 18, 2000, at 7:00 PM, at the Newport Beach City Hall Council Chambers, 3300 Newport Boulevard, Newport Beach, California.

Dated: June 2, 2000.
John P. Carroll,
Colonel, Corps of Engineers, District Engineer.

[FR Doc. 00-16400 Filed 6-28-00; 8:45 am]

BILLING CODE 3710-KF-P